SMALL BUSINESS ADMINISTRATION

National Advisory Council; Public Meeting

The U.S. Small Business Administrations (SBA), National Advisory Council (NAC) will hold a public meeting on Tuesday, March 21, 2006 at 3 p.m. to discuss such matters that may be presented by members, staff of the SBA, or interested others. The meeting will take place using an audio/web conferencing system. To participate, please call our toll free conferencing service at 1-866-740-1260 and enter access code 3711001 at the prompt.

Anyone wishing to attend or to make a presentation must contact Balbina Caldwell in writing or by fax, in order to be put on the agenda. Balbina Caldwell, Director of the National Advisory Council, SBA Headquarters, 409 3rd Street SW., Washington DC 20416, phone (202) 205-6914, fax (202) 481-4678, e-mail: Balbina.Caldwell@sba.gov.

For more information, see our Web site at http://www.sba.gov/nac/index.html.

Matthew K. Becker,
Committee Management Officer.

[FR Doc. E6-3418 Filed 3-9-06; 8:45 am]

BILLING CODE 8025-01-P